DEPARTMENT OF JUSTICE

Notice of Lodging of Consent Decree Under the Comprehensive Environmental Response, Compensation, and Liability Act (“CERCLA”)

Under the policy set out at 28 CFR 50.7, notice is hereby given that on November 4, 2004, the United States lodged with the United States District Court for the District of Montana a proposed consent decree (“Consent Decree”) in the case of United States v. Atlantic Richfield Company, et al., Civil Action No. CV-89-39-SEH. The Consent Decree pertains to certain Superfund sites within the Clark Fork River Basin in southwestern Montana that have not been the subject of prior settlements with the United States—the Anaconda Smelter Superfund Site, the Clark Fork River Superfund Site, the Warm Springs Ponds Superfund Site, and the Butte Superfund Site, (collectively, the “Remaining Clark Fork Site” ).

The proposed settlement would resolve the claims brought by the United States against ARCO under section 107 of the Comprehensive Environmental Response, Compensation and Liability Act of 1980, as amended (“CERCLA”), 42 U.S.C. 9607, for the recovery of response costs previously paid by EPA, through July 31, 2002, with accrued interest, in responding to releases and threatened releases of hazardous substances at the Remaining Clark Fork Sites. The Consent Decree would simultaneously resolve, subject to certain reservations, most of the defenses and all of the counterclaims asserted by ARCO against the United States for the past cost claims at the Remaining Clark Fork Sites, as well as the future response costs and future response actions at these sites.

The Department of Justice will receive for a period of thirty (30) days from the date of this publication comments relating to the Consent Decree. Comments should be addressed to the Assistant Attorney General, Environment and Natural Resources Division, P.O. Box 7611, U.S. Department of Justice, Washington, DC 20044-7611, and should refer to United States v. ARCO, DOJ Case Number 90-11-2-430.

The proposed Consent Decree may be examined at the office of the United States Attorney for the District of Montana, 2929 Third Avenue North, Suite 400, Billings, Montana 59101, and at U.S. EPA Region VIII Montana Office, Federal Building, 10 West 15th Street, Suite 3200, Helena, Montana 59624. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Consent Decree, please reference United States v. ARCO, DOJ Case Number 90-11-2-430, and enclose a check in the amount of $10.00 (25 cents per page reproduction costs) payable to the U.S. Treasury.

Robert D. Brook,
Assistant Chief, Environmental Enforcement Section, Environment and Natural Resources Division.

[FR Doc. 04-25535 Filed 11-17-04; 8:45 am]

BILLING CODE 4410-15-M